DEPARTMENT OF TRANSPORTATION

Federal Aviation Administration

14 CFR Part 25

[Docket No. FAA-2014-0698; Special Conditions No. 25-567-SC]

Special Conditions: Bombardier Aerospace, Models BD-500-1A10 and BD-500-1A11 Series Airplanes; Airplane Electronic System Security Protection From Unauthorized External Access

AGENCY: Federal Aviation Administration (FAA), DOT.

ACTION: Final special conditions; corrections.

SUMMARY: This document corrects two errors that appeared in Docket No. FAA-2014-0698, Special Conditions No. 25-567-SC, which was published in the Federal Register on September 12, 2014 (79 FR 54574). There is an error in the header information and in one instance of one of the airplane model numbers in the publication.

DATES: The effective date of this correction is October 23, 2014.

FOR FURTHER INFORMATION CONTACT: Varun Khanna, FAA, Airplane and Flight Crew Interface Branch, ANM-111,Transport Airplane Directorate, Aircraft Certification Service, 1601 Lind Avenue SW., Renton, Washington 98057-3356; telephone (425) 227-1298; facsimile (425) 227-1149.

SUPPLEMENTARY INFORMATION: On September 12, 2014, the Federal Register published document designated as “Docket No. FAA-2014-0698, Notice No. 25-567-SC,” (79 FR 54574). The document issued special conditions pertaining to network security in the digital systems architecture, access from external sources, on the BD-500-1A10 and BD-500-1A11 series airplanes.

As published, the document contained two errors:

1. In the header of the document, “Notice No.” should have been “Special Conditions No.”

2. In one instance, one of the airplane model numbers was published as “BD-500-1A1” instead of “BD-500-1A11.”

Correction

In Final special conditions document (FR Doc. 2014-21789) published on September 12, 2014 (79 FR 54574), make the following corrections:

1. On page 54574, second column in the header information, correct “Notice No.” to read “Special Conditions No.”

2. On page 54575, third column, last line in the introductory text in the section titled, “The Special Conditions,” correct “BD-500-1A1” to read “BD-500-1A11.”

Issued in Renton, Washington, on October 16, 2014.
Michael Kaszycki,
Acting Manager, Transport Airplane Directorate, Aircraft Certification Service.

[FR Doc. 2014-25241 Filed 10-22-14; 8:45 am]

BILLING CODE 4910-13-P